DEPARTMENT OF ENERGY

Federal Energy Regulatory Commission

Combined Notice of Filings #1

Take notice that the Commission received the following electric rate filings:

Docket Numbers: ER12-281-004; ER13-821-001; ER10-2959-003; ER10-2934-002; ER10-2961-002; ER10-2950-002; ER10-3099-005; ER10-3077-001; ER10-3075-001; ER10-3076-001; ER10-3074-001; ER10-3071-001; ER11-4266-005; ER10-3257-001.

Applicants: CalPeak Power—Border LLC, CalPeak Power—Enterprise LLC, CalPeak Power—Panoche LLC, CalPeak Power—Vaca Dixon LLC, CalPeak Power LLC, Chambers Cogeneration, Limited Partnership, Edgecombe Genco, LLC, EIF Hudson, LLC, Logan Generating Co L.P., RC Cape May Holdings, LLC, Richland-Stryker Generation LLC, Scrubgrass Generating Company, L.P., Spruance Genco, LLC, Starwood Energy Hudson Investors, L.P., Starwood Power-Midway, LLC, Northampton Generating Company, L.P., Edgecombe Genco, LLC.

Description: Notice of non-material change status of EIF and Starwood MBR Entities.

Filed Date: 5/20/13.

Accession Number: 20130520-5200.

Comments Due: 5 p.m. ET 6/10/13.

Docket Numbers: ER13-186-002.

Applicants: Midcontinent Independent System Operator, Inc.

Description: 05-20-13 ITC Att FF BRP Compliance v2 to be effective 6/1/2013.

Filed Date: 5/20/13.

Accession Number: 20130520-5111.

Comments Due: 5 p.m. ET 6/19/13.

Docket Numbers: ER13-780-003.

Applicants: New York Independent System Operator, Inc.

Description: Compliance re: interface pricing and revised NAESB standards to be effective 5/6/2013.

Filed Date: 5/20/13.

Accession Number: 20130520-5046.

Comments Due: 5 p.m. ET 6/10/13.

Docket Numbers: ER13-1401-000; ER13-1406-000; ER13-1407-000.

Applicants: Westbrook Energy Center, LLC.

Description: Supplement to May 1, 2013 and May 2, 2013 Applications for Market-Based Rate Authorization of Westbrook Energy Center, LLC, Osprey Energy Center, LLC and CFCC Sutter Energy, LLC.

Filed Date: 5/17/13.

Accession Number: 20130517-5171.

Comments Due: 5 p.m. ET 6/7/13.

Docket Numbers: ER13-1526-000.

Applicants: Massachusetts Electric Company.

Description: Interconnection Agreement Between Mass. Electric Co. and Ice House Partners Inc. to be effective 7/20/2013.

Filed Date: 5/20/13.

Accession Number: 20130520-5155.

Comments Due: 5 p.m. ET 6/10/13.

Docket Numbers: ER13-1527-000.

Applicants: Southern California Edison Company.

Description: Mojave Solar Letter Agreement Satsuma Solar Project to be effective 5/14/2013.

Filed Date: 5/21/13.

Accession Number: 20130521-5001.

Comments Due: 5 p.m. ET 6/11/13.

Docket Numbers: ER13-1528-000.

Applicants: Southern California Edison Company.

Description: Revised Added Facilities Rate Interconnection Agmts under Trans Owner Tariff to be effective 1/1/2013.

Filed Date: 5/21/13.

Accession Number: 20130521-5002.

Comments Due: 5 p.m. ET 6/11/13.

Docket Numbers: ER13-1529-000.

Applicants: Southern California Edison Company.

Description: Notice of Cancellation to Mojave Solar 4 Project Letter Agreement to be effective 3/13/2013.

Filed Date: 5/21/13.

Accession Number: 20130521-5003.

Comments Due: 5 p.m. ET 6/11/13.

Take notice that the Commission received the following electric securities filings:

Docket Numbers: ES13-25-000.

Applicants: Northern Indiana Public Service Company.

Description: Application for Authorization to Issue Short-Term Debt of Northern Indiana Public Service Company.

Filed Date: 5/20/13.

Accession Number: 20130520-5165.

Comments Due: 5 p.m. ET 6/10/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 21, 2013.
Nathaniel J. Davis, Sr.,
Deputy Secretary.

[FR Doc. 2013-12805 Filed 5-29-13; 8:45 am]

BILLING CODE 6717-01-P